DEPARTMENT OF LABOR

Employment and Training Administration

[TA-W-55,004]

Solutia, Inc. Performance Products Division, Anniston, AL; Notice of Revised Determination on Reconsideration

By letter dated July 28, 2004 a company official requested administrative reconsideration regarding the Department's Negative Determination Regarding Eligibility to Apply for Worker Adjustment Assistance, applicable to the workers of the subject firm.

The initial investigation resulted in a negative determination signed on June 21, 2004 was based on the finding that imports of paranitrophenol did not contribute importantly to worker separations at the subject plant and no shift of production to a foreign source occurred. The denial notice was published in the Federal Register on August 3, 2004 (69 FR 46574).

To support the request for reconsideration, the company official supplied additional information. Upon further review and contact with the subject firm's major customer, it was revealed that the customer significantly increased its import purchases of paranitrophenol while decreasing its purchases from the subject firm during the relevant period. The imports accounted for a meaningful portion of the subject plant's lost sales and production.

Conclusion: After careful review of the additional facts obtained on reconsideration, I conclude that increased imports of articles like or directly competitive with those produced at Solutia, Inc., Performance Products Division, Anniston, Alabama, contributed importantly to the declines in sales or production and to the total or partial separation of workers at the subject firm. In accordance with the provisions of the Act, I make the following certification:

“All workers of Solutia, Inc., Performance Products Division, Anniston, Alabama, who became totally or partially separated from employment on or after May 28, 2003 through two years from the date of this certification, are eligible to apply for adjustment assistance under Section 223 of the Trade Act of 1974.”

Signed in Washington, DC this 5th day of August 2004.
Elliott S. Kushner,
Certifying Officer, Division of Trade Adjustment Assistance.

[FR Doc. 04-18738 Filed 8-16-04; 8:45 am]

BILLING CODE 4510-30-P